DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 2, 2003.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone 703/358-2104.

SUPPLEMENTARY INFORMATION:

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address above).

PRT-067283

Applicant: Ralph A. Musella, Arbutus, MD.

The applicant requests a permit to import the sport-hunted trophy of one male bontebok (Damaliscus pygargus dorcas) culled from a captive herd maintained under the management program of the Republic of South Africa, for the purpose of enhancement of the survival of the species.

PRT-066261

Applicant: Zoo New England, Boston, MA.

The applicant requests a permit to import one male and one female captive born jaguar (Panthera onca) from Zoologico La Jungla, Parque Recreativo Urban (Irtra) Petapa, Ciudad de Guatemala, Guatemala, for the purpose of enhancement of the survival of the species through conservation education and captive breeding.

PRT-066262

Applicant: Tulsa Zoological Park, Tulsa, OK.

The applicant requests a permit to import one male captive born jaguar (Panthera onca) from Zoologico La Jungla, Parque Recreativo Urban (Irtra) Petapa, Ciudad de Guatemala, Guatemala, for the purpose of enhancement of the survival of the species through conservation education and captive breeding.

PRT-066263

Applicant: Akron Zoological Park, Akron, OH.

The applicant requests a permit to import one male captive born jaguar (Panthera onca) from Zoologico La Jungla, Parque Recreativo Urban (Irtra) Petapa, Ciudad de Guatemala, Guatemala, for the purpose of enhancement of the survival of the species through conservation education and captive breeding.

Marine Mammals

The public is invited to comment on the following applications for a permit to conduct certain activities with marine mammals. The applications were submitted to satisfy requirements of the Marine Mammal Protection Act of 1972, as amended (16 U.S.C. 1361 et seq.) and the regulations governing marine mammals (50 CFR part 18). Written data, comments, or requests for copies of the complete applications or requests for a public hearing on these applications should be submitted to the Director (address above). Anyone requesting a hearing should give specific reasons why a hearing would be appropriate. The holding of such a hearing is at the discretion of the Director.

PRT-067553

Applicant: Daniel R. Kehoe, Moline, IL.

The applicant requests a permit to import a polar bear (Ursus maritimus) sport hunted from the Western Hudson Bay polar bear population in Canada, for personal use.

PRT-067142

Applicant: Ricky H. Jackson, Thomasville, NC.

The applicant requests a permit to import a polar bear (Ursus maritimus) sport hunted from the Foxe Basin polar bear population in Canada, prior to April 30, 1994, for personal use.

The U.S. Fish and Wildlife Service has information collection approval from OMB through March 31, 2004, OMB Control Number 1018-0093. Federal Agencies may not conduct or sponsor and a person is not required to respond to a collection of information unless it displays a current valid OMB control number.

Dated: February 7, 2003.
Michael S. Moore,
Senior Permit Biologist, Branch of Permits, Division of Management Authority.

[FR Doc. 03-4880 Filed 2-28-03; 8:45 am]

BILLING CODE 4310-55-P